DEPARTMENT OF TRANSPORTATION

Federal Aviation Administration

Commercial Space Transportation Advisory Committee—Open Meeting

AGENCY: Federal Aviation Administration (FAA), DOT.

ACTION: Notice of Commercial Space Transportation Advisory Committee meeting.

SUMMARY: Pursuant to Section 10(a)(2) of the Federal Advisory Committee Act, notice is hereby given of a meeting of the Commercial Space Transportation Advisory Committee (COMSTAC).

DATES: The meeting will take place on May 30, 2019 from 9:00 a.m. to 5:00 p.m.

ADDRESSES: Department of Transportation (DOT) Headquarters, 1200 New Jersey Avenue SE, Washington, DC. Guests should allow time for security screening when entering the building.

FOR FURTHER INFORMATION CONTACT: Di Reimold, COMSTAC Executive Director; email COMSTAC@faa.gov, FAA Office of Commercial Space Transportation, 800 Independence Avenue SW, Room 331, Washington, DC 20591. Complete information regarding COMSTAC is available on the FAA website at: http://www.faa.gov/about/office_org/headquarters_offices/ast/advisory_committee/.

SUPPLEMENTARY INFORMATION:

The preliminary schedule for the COMSTAC meeting on May 30 is below:

—DOT Updates

—Industry Updates

—Infrastructure Working Group Discussion

—Safety Working Group Discussion

—Legal and Regulatory Working Group Discussion

—Competitiveness and Innovation Working Group Discussion

—Planning for future priorities

Attendance is open to the public but limited to the space available. Please confirm your attendance with the person listed in the FOR FURTHER INFORMATION CONTACT section no later than May 18, 2019. Please provide the following information: Full legal name, country of citizenship, email address, and name of your industry association, or applicable affiliation. If you are attending as a public citizen, please indicate so.

For persons participating by telephone, please contact the person listed in the FOR FURTHER INFORMATION CONTACT section by email no later than May 18, 2019 for the teleconference call-in number and passcode. Callers are responsible for paying long-distance charges.

If you are in need of assistance or require a reasonable accommodation for this meeting, please contact the person listed in the FOR FURTHER INFORMATION CONTACT section at least 10 calendar days before the meeting. Sign and oral interpretation can be made available if requested 10 calendar days before the meeting.

Interested members of the public may submit relevant written statements for the COMSTAC members to consider under the advisory process. Statements may concern the issues and agenda items mentioned above and/or additional issues that may be relevant for the U.S. commercial space transportation industry. Interested parties wishing to submit written statements should contact the person listed below in writing (mail or email) 10 DAYS IN ADVANCE OF MEETING so that the information can be made available to COMSTAC members for their review and consideration before the meeting. Written statements should be supplied in the following formats: One hard copy with original signature and/or one electronic copy via email. Portable Document Format (PDF) attachments are preferred for email submissions. A detailed agenda will be posted on the FAA website at www.faa.gov/go/ast.

Issued in Washington, DC, April 22, 2019.
Wayne Monteith,
Associate Administrator for Commercial Space Transportation.

[FR Doc. 2019-08365 Filed 4-24-19; 8:45 am]

BILLING CODE 4910-13-P